DEPARTMENT OF AGRICULTURE

Forest Service

Notice of Meeting; Federal Lands Recreation Enhancement Act (Title VIII, Pub. L. 108-447)

AGENCY: USDA Forest Service.

ACTION: Notice of meeting.

SUMMARY: The Eastern Region Recreation Resource Advisory Committee will hold its third meeting via teleconference. The purpose of the meeting is to receive recommendations concerning recreation fee proposals on areas managed by the Forest Service in Michigan and to discuss other items of interest related to the Federal Lands Recreation Enhancement Act of 2004.

A final detailed agenda, with any additions/corrections to agenda topics and meeting time, will be sent to regional media sources at least 14 days before the meeting, and hard copies can also be mailed or sent via FAX. Individuals who need special assistance such as sign language interpretation or other reasonable accommodations, or who wish a hard copy of the agenda, should contact Marcia Heymen at 626 E. Wisconsin Ave., Milwaukee, WI 53202 no later than 10 days prior to the meeting.

DATES: The meeting will be held February 26, 2008.

Send written comments to Cheryl Chatham, Designated Federal Official for the Eastern Recreation RAC, US Forest Service, PO Box 1270, Hot Springs, AR 71902.

FOR FURTHER INFORMATION CONTACT: Cheryl Chatham, Designated Federal Official US Forest Service, PO Box 1270, Hot Springs, AR 71902.

SUPPLEMENTARY INFORMATION: The meeting is open to the public. Committee discussion is limited to Forest Service staff and Committee members. However, persons who wish to bring recreation fee matters to the attention of the Committee may file written statements with the Committee staff before or after the meeting. A public input session will be provided and individuals who made written requests by February 20, 2008, will have the opportunity to address the Committee at the meeting.

The Recreation RAC is authorized by the Federal Land Recreation Enhancement Act, which was signed into law by President Bush in December 2004.

Dated: January 23, 2008.
Cheryl G. Chatham,
Designated Federal Officer.

[FR Doc. 08-389 Filed 1-29-08; 8:45 am]

BILLING CODE 3410-11-M